DEPARTMENT OF JUSTICE

Drug Enforcement Administration

[Docket No. DEA-860]

Bulk Manufacturer of Controlled Substances Application: Absolute Standards, Inc.

AGENCY: Drug Enforcement Administration, Justice.

ACTION: Notice of application.

SUMMARY: Absolute Standards, Inc., has applied to be registered as a bulk manufacturer of basic class(es) of controlled substance(s). Refer to Supplementary Information listed below for further drug information.

DATES: Registered bulk manufacturers of the affected basic class(es), and applicants therefore, may file written comments on or objections to the issuance of the proposed registration on or before October 25, 2021. Such persons may also file a written request for a hearing on the application on or before October 25, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on May 31, 2021, Absolute Standards, Inc., 44 Rossotto Drive, Hamden, Connecticut 06514-1335, applied to be registered as a bulk manufacturer of the following basic class(es) of controlled substance:

Controlled substance | Drug code | Schedule
Pentobarbital | 2270 | II

The company plans to bulk manufacture the listed controlled substances for internal use and for sale to its customers. No other activities for these drug codes are authorized for this registration.

Brian S. Besser,
Acting Assistant Administrator.

[FR Doc. 2021-18230 Filed 8-24-21; 8:45 am]

BILLING CODE P